DEPARTMENT OF HOUSING AND URBAN DEVELOPMENT

[Docket No. FR-4910-N-11]

Notice of Proposed Information Collection for Public Comment; Annual Lead-Based Paint (LBP) Activity Report

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: July 6, 2004.

ADDRESSES: Interested persons are invited to submit comments regarding this proposal. Comments should refer to the proposal by name/or OMB Control number and should be sent to: Sherry Fobear McCown, Reports Liaison Officer, Public and Indian Housing, Department of Housing and Urban Development, 451 7th Street, SW., Room 4116, Washington, DC 20410-5000.

FOR FURTHER INFORMATION CONTACT: Sherry Fobear McCown, (202) 708-0713, extension 7651, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Annual Lead-Based Paint Activity Report.

OMB Control Number: 2577-0090.

Description of the need for the information and proposed use: HUD needs the information to assure statutory and regulatory compliance with The Lead-Based Paint Poisoning Prevention Act (LBPPA), as amended (42 U.S.C. 4821-4846) which requires public and Indian housing agencies (HAs) to randomly sample their pre-1978 developments for the presence of LBP. Congress directed HUD to establish an adequate management information system for measuring and reporting on HAs' performance on LBP activities. HUD revised the tracking system for collecting lead-based paint data. The system collects less, but different data. HAs use the Form HUD-52850 to submit information on LBP. HUD reports the information to Congress as required by statute.

Agency form number: HUD-52850.

Members of affected public: State, Local or Tribal government.

Estimation of the total number of hours needed to prepare the information collection including number of respondents: 3,100 respondents; one response per respondent annually; one hour average per response, 3,100 total reporting burden hours per year.

Status of the proposed information collection: Extension of currently approved collection.

Authority: Section 3506 of the Paperwork Reduction Act of 1995, 44 U.S.C. Chapter 35, as amended.

Dated: April 29, 2004.
Michael M. Liu,
Assistant Secretary for Public and Indian Housing.

[FR Doc. 04-10479 Filed 5-6-04; 8:45 am]

BILLING CODE 4210-33-P